DEPARTMENT OF ENERGY

Federal Energy Regulatory Commission

Combined Notice of Filings #1

November 12, 2021.

Take notice that the Commission received the following electric rate filings:

Docket Numbers: ER14-2498-012; ER14-2500-012; ER16-2462-012; ER17-2364-006; ER19-106-005; ER21-445-002; ER16-2643-004.

Applicants: Potomac Energy Center, LLC, Hill Top Energy Center LLC, Birdsboro Power LLC, St. Joseph Energy Center, LLC, Oregon Clean Energy, LLC, Newark Energy Center, LLC, EIF Newark, LLC.

Description: Notice of Non-Material Change in Status of EIF Newark, LLC, et al.

Filed Date: 11/12/21.

Accession Number: 20211112-5237.

Comment Date: 5 p.m. ET 12/3/21.

Docket Numbers: ER21-2652-000.

Applicants: Caddo Wind, LLC.

Description: Report Filing: Third Supplement to Application for Market-Based Rate Authority to be effective N/A.

Filed Date: 11/12/21.

Accession Number: 20211112-5222.

Comment Date: 5 p.m. ET 11/19/21.

Docket Numbers: ER22-384-000.

Applicants: ITC Midwest LLC.

Description: § 205(d) Rate Filing: Filing of a Construction Agreement and Joint Use Agreement to be effective 1/10/2022.

Filed Date: 11/10/21.

Accession Number: 20211110-5195.

Comment Date: 5 p.m. ET 12/1/21.

Docket Numbers: ER22-385-000.

Applicants: Innovative Owner 43, LLC.

Description: Baseline eTariff Filing: Innovative Owner 43, LLC—Application for Market-Based Rate Authority to be effective 11/11/2021.

Filed Date: 11/10/21.

Accession Number: 20211110-5241.

Comment Date: 5 p.m. ET 12/1/21.

Docket Numbers: ER22-386-000.

Applicants: Portland General Electric Company.

Description: Tariff Amendment: Portland General Electric Company submits tariff filing per 35.15: NorthernGrid Funding Agreement Termination to be effective 12/31/2021.

Filed Date: 11/12/21.

Accession Number: 20211112-5001.

Comment Date: 5 p.m. ET 12/3/21.

Docket Numbers: ER22-387-000.

Applicants: Crescent Ridge LLC.

Description: Baseline eTariff Filing: Reactive Power Compensation Filing to be effective 12/13/2021.

Filed Date: 11/12/21.

Accession Number: 20211112-5013.

Comment Date: 5 p.m. ET 12/3/21.

Docket Numbers: ER22-388-000.

Applicants: Public Service Company of Colorado.

Description: § 205(d) Rate Filing: 2021-11-11 PSCoES-Provisional LGIA-657-0.0.0 to be effective 11/12/2021.

Filed Date: 11/12/21.

Accession Number: 20211112-5019.

Comment Date: 5 p.m. ET 12/3/21.

Docket Numbers: ER22-389-000.

Applicants: Public Service Company of Colorado.

Description: § 205(d) Rate Filing: 2011-11-11 PSCoES-Provisional LGIA-658-0.0.0 to be effective 11/12/2021.

Filed Date: 11/12/21.

Accession Number: 20211112-5024.

Comment Date: 5 p.m. ET 12/3/21.

Docket Numbers: ER22-390-000.

Applicants: Duke Energy Carolinas, LLC.

Description: § 205(d) Rate Filing: DEC-BREMC—Revised NITSA SA No. 367 to be effective 1/1/2022.

Filed Date: 11/12/21.

Accession Number: 20211112-5031.

Comment Date: 5 p.m. ET 12/3/21.

Docket Numbers: ER22-391-000.

Applicants: ISO New England Inc.

Description: ISO New England Inc submits its informational filing for qualification in the Forward Capacity Market under 2025-2026 Capacity Commitment Period.

Filed Date: 11/9/21.

Accession Number: 20211109-5228.

Comment Date: 5 p.m. ET 11/24/21.

Docket Numbers: ER22-392-000.

Applicants: El Paso Electric Company.

Description: Compliance filing: EPE Order No. 864 Compliance Filing to be effective N/A.

Filed Date: 11/12/21.

Accession Number: 20211112-5115.

Comment Date: 5 p.m. ET 12/3/21.

Docket Numbers: ER22-393-000.

Applicants: Hardin Solar Holdings LLC.

Description: Tariff Amendment: Notice of Cancellation of Market-Based Rate Tariff to be effective 1/12/2022.

Filed Date: 11/12/21.

Accession Number: 20211112-5155.

Comment Date: 5 p.m. ET 12/3/21.

Docket Numbers: ER22-394-000.

Applicants: Southwest Power Pool, Inc.

Description: § 205(d) Rate Filing: 2888R5 Arkansas Electric Cooperative Corp NITSA NOA to be effective 11/1/2021.

Filed Date: 11/12/21.

Accession Number: 20211112-5156.

Comment Date: 5 p.m. ET 12/3/21.

Docket Numbers: ER22-395-000.

Applicants: PJM Interconnection, L.L.C.

Description: § 205(d) Rate Filing: Original WMPA, Service Agreement No. 6229; Queue No. AG1-213 to be effective 11/1/2021.

Filed Date: 11/12/21.

Accession Number: 20211112-5158.

Comment Date: 5 p.m. ET 12/3/21.

Docket Numbers: ER22-396-000.

Applicants: Equilon Enterprises LLC.

Description: Tariff Amendment: Notice of Cancellation to be effective 11/13/2021.

Filed Date: 11/12/21.

Accession Number: 20211112-5215.

Comment Date: 5 p.m. ET 12/3/21.

Docket Numbers: ER22-397-000.

Applicants: PJM Interconnection, L.L.C.

Description: § 205(d) Rate Filing: WMPA Second Amendment to Service Agreement No. 5589; Queue No. AE2-115 to be effective 1/8/2020.

Filed Date: 11/12/21.

Accession Number: 20211112-5238.

Comment Date: 5 p.m. ET 12/3/21.

Docket Numbers: ER22-398-000.

Applicants: Mesa Wind Power LLC.

Description: Compliance filing: Notice of Succession and Revised Market-Based Rate Tariff to be effective 11/13/2021.

Filed Date: 11/12/21.

Accession Number: 20211112-5240.

Comment Date: 5 p.m. ET 12/3/21.

Docket Numbers: ER22-399-000.

Applicants: Meadow Lake Solar Park LLC.

Description: Baseline eTariff Filing: Market-Based Rate Application to be effective 1/12/2022.

Filed Date: 11/12/21.

Accession Number: 20211112-5249.

Comment Date: 5 p.m. ET 12/3/21.

Docket Numbers: ER22-400-000.

Applicants: ISO New England Inc., New England Power Pool Participants Committee.

Description: § 205(d) Rate Filing: ISO New England Inc. submits tariff filing per 35.13(a)(2)(iii: ISO-NE and NEPOOL; Attachment K Resource Assumption Changes to be effective 1/11/2022.

Filed Date: 11/12/21.

Accession Number: 20211112-5251.

Comment Date: 5 p.m. ET 12/3/21.

Docket Numbers: ER22-401-000.

Applicants: Florey Knob Energy LLC.

Description: Tariff Amendment: Florey Knob Energy LLC Cancellation of MBR Tariff to be effective 11/13/2021.

Filed Date: 11/12/21.

Accession Number: 20211112-5277.

Comment Date: 5 p.m. ET 12/3/21.

Docket Numbers: ER22-402-000.

Applicants: Idaho Power Company.

Description: § 205(d) Rate Filing: Section 4—Sliding Yearly Option to be effective 12/15/2021.

Filed Date: 11/12/21.

Accession Number: 20211112-5296.

Comment Date: 5 p.m. ET 12/3/21.

Docket Numbers: ER22-403-000.

Applicants: Public Service Company of New Mexico.

Description: § 205(d) Rate Filing: First Revised Incremental Transmission Service Agreements to be effective 12/1/2021.

Filed Date: 11/12/21.

Accession Number: 20211112-5297.

Comment Date: 5 p.m. ET 12/3/21.

Take notice that the Commission received the following qualifying facility filings:

Docket Numbers: QF22-121-000.

Applicants: Sonata Green Owner, LLC.

Description: Form 556 of Sonata Green Owner, LLC.

Filed Date: 11/12/21.

Accession Number: 20211112-5212.

Comment Date: 5 p.m. ET 12/3/21.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Kimberly D. Bose,
Secretary.

[FR Doc. 2021-25174 Filed 11-17-21; 8:45 am]

BILLING CODE 6717-01-P